DEPARTMENT OF ENERGY

[OE Docket No. EA-358]

Application To Export Electric Energy; Twin Cities Energy, L.L.C.

AGENCY: Office of Electricity Delivery and Energy Reliability, DOE.

ACTION: Notice of Application.

SUMMARY: Twin Cities Energy, L.L.C. (Twin Cities) has applied for authority to transmit electric energy from the United States to Canada pursuant to section 202(e) of the Federal Power Act.

DATES: Comments, protests, or requests to intervene must be submitted on or before July 27, 2009.

ADDRESSES: Comments, protests, or requests to intervene should be addressed as follows: Office of Electricity Delivery and Energy Reliability, Mail Code: OE-20, U.S. Department of Energy, 1000 Independence Avenue, SW., Washington, DC 20585-0350 (FAX 202-586-8008).

FOR FURTHER INFORMATION CONTACT: Ellen Russell (Program Office) 202-586-9624 or Michael Skinker (Program Attorney) 202-586-2793.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C. 824a(e)).

On May 26, 2009, DOE received an application from Twin Cities for authority to transmit electric energy from the United States to Canada as a power marketer using international transmission facilities located at the United States border with Canada. Twin Cities does not own any electric transmission facilities nor does it hold a franchised service area. The electric energy which Twin Cities proposes to export to Canada would be surplus energy purchased from electric utilities, Federal power marketing agencies, and other entities within the United States. Twin Cities has requested an electricity export authorization with a 5-year term.

The construction, operation, maintenance, and connection of each of the international transmission facilities to be utilized by Twin Cities has previously been authorized by a Presidential permit issued pursuant to Executive Order 10485, as amended.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with DOE on or before the date listed above.

Comments on the Twin Cities application to export electric energy to Canada should be clearly marked with Docket No. EA-358. Additional copies are to be filed directly with Larry S. Severson, Severson, Sheldon, Dougherty & Molenda P.A., Suite 600, 7300 West 147th Street, Apple Valley, Minnesota 55124-7580 and Michael Tufte, Twin Cities Power, LLC, 17725 Juniper Path, Lakeville, Minnesota 55044. A final decision will be made on this application after the environmental impacts have been evaluated pursuant to the National Environmental Policy Act of 1969, and a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.hopkins@hq.doe.gov.

Issued in Washington, DC, on June 19, 2009.
Anthony J. Como,
Director, Permitting and Siting, Office of Electricity Delivery and Energy Reliability.

[FR Doc. E9-15127 Filed 6-25-09; 8:45 am]

BILLING CODE 6450-01-P